CONSUMER PRODUCT SAFETY COMMISSION

Sunshine Act Meetings

Federal Register CITATION OF PREVIOUS ANNOUNCEMENT: Vol. 76, No. 145, Thursday, July 28, 2011, pages 45233-45234.

ANNOUNCED TIME AND DATE OF MEETING: Closed to the Public, Wednesday, August 3, 2011, 10-11 a.m.

MATTER TO BE CONSIDERED: Compliance Status Report.

Meeting Canceled.

For a recorded message containing the latest agenda information, call (301) 504-7948.

CONTACT PERSON FOR ADDITIONAL INFORMATION: Todd A. Stevenson, Office of the Secretary, 4330 East West Highway, Bethesda, MD 20814; (301) 504-7923.

Dated: August 2, 2011.
Todd A. Stevenson,
Secretary.

[FR Doc. 2011-19865 Filed 8-2-11; 11:15 am]

BILLING CODE 6355-01-P